DEPARTMENT OF THE INTERIOR

Fish and Wildlife Service

[FWS-HQ-ES-2014-N012; FF09E15000-FXHC112509CBRA1-145]

John H. Chafee Coastal Barrier Resources System; Availability of Final Revised Maps for Delaware, North Carolina, South Carolina, Florida, and Texas

AGENCY: Fish and Wildlife Service, Interior.

ACTION: Notice of availability.

SUMMARY: The Coastal Barrier Resources Act (CBRA) requires the Secretary of the Interior (Secretary) to review the maps of the John H. Chafee Coastal Barrier Resources System (CBRS) at least once every 5 years and make any minor and technical modifications to the boundaries of the CBRS as are necessary to reflect changes that have occurred in the size or location of any CBRS unit as a result of natural forces. The U.S. Fish and Wildlife Service (Service) has conducted this review and has prepared final revised maps for all of the CBRS units in Delaware, all units in South Carolina (including one unit that crosses the State boundary into North Carolina), all units in Texas, and one unit in Florida. The maps were produced by the Service in partnership with the Federal Emergency Management Agency (FEMA) and in consultation with the appropriate Federal, State, and local officials. This notice announces the findings of the Service's review and the availability of final revised maps for 69 CBRS units. The final revised maps for these CBRS units, dated December 6, 2013, are the official controlling CBRS maps for these areas.

DATES: Changes to the CBRS depicted on the final revised maps, dated December 6, 2013, become effective on April 17, 2014.

ADDRESSES: For information about how to get copies of the maps or where to go to view them, see SUPPLEMENTARY INFORMATION.

FOR FURTHER INFORMATION CONTACT: Katie Niemi, Coastal Barriers Coordinator, Division of Budget and Technical Support, U.S. Fish and Wildlife Service, 4401 N. Fairfax Drive, Room 840, Arlington, VA 22203; telephone (703) 358-2071; or electronic mail (email) CBRA@fws.gov.

SUPPLEMENTARY INFORMATION:

Background

Background information on the CBRA (CBRA; 16 U.S.C. 3501 et. seq.) and the CBRS, as well as information on the digital conversion effort and the methodology used to produce the revised maps, can be found in a notice the Service published in the Federal Register on August 29, 2013 (78 FR 53467).

For how to access the final revised maps, see the Availability of Final Maps and Related Information section below.

Announced Map Modifications

This notice announces modifications to the maps for all of the CBRS units in Delaware, all units in South Carolina (including one unit that crosses that State boundary into North Carolina), all units in Texas, and one unit in Florida. Most of the modifications were made to reflect changes to the CBRS units as a result of natural forces (e.g., erosion and accretion). The CBRA requires the Secretary to review the CBRS maps at least once every 5 years and make, in consultation with the appropriate Federal, State, and local officials, any minor and technical modifications to the boundaries of the CBRS as are necessary to reflect changes that have occurred in the size or location of any CBRS unit as a result of natural forces (16 U.S.C. 3503(c)).

Additionally, one of the maps for South Carolina also includes a voluntary addition to the CBRS that was requested by the owners of the property. The CBRA authorizes the Secretary to add a parcel of real property to the CBRS if the parcel is an undeveloped coastal barrier and the owner of the parcel requests, in writing, that the Secretary add the parcel to the CBRS (16 U.S.C. 3503(d)).

The Service's review resulted in a set of 87 final revised maps, dated December 6, 2013, depicting a total of 69 CBRS units. The set of maps is comprised of 7 maps for 10 CBRS units located in Delaware, 24 maps for 23 CBRS units located in South Carolina (including 1 unit that crosses the State boundary into North Carolina), 55 maps for 35 CBRS units located in Texas, and 1 map for 1 CBRS unit located in Florida. The Service found that 62 of the 69 units reviewed had experienced changes in their size or location as a result of natural forces since they were last mapped. The revised maps were produced by the Service in partnership with FEMA.

The Service is specifically notifying the following stakeholders concerning the availability of the final revised maps: the Chair and Ranking Member of the House of Representatives Committee on Natural Resources; the Chair and Ranking Member of the Senate Committee on Environment and Public Works; the members of the Senate and House of Representatives for the affected areas; the Governors of the affected areas; and other appropriate Federal, State, and local officials.

Consultation With Federal, State, and Local Officials

Consultation and Comment Period

The CBRA requires consultation with the appropriate Federal, State, and local officials (stakeholders) on the proposed CBRS boundary modifications to reflect changes that have occurred in the size or location of any CBRS unit as a result of natural forces (16 U.S.C 3503(c)). The Service fulfilled this requirement by holding a 32-day comment period on the draft maps (dated November 30, 2012) for Federal, State, and local stakeholders, from August 29, 2013, through September 30, 2013. This comment period was announced in a notice published in the Federal Register (78 FR 53467) on August 29, 2013.

Formal notification of the comment period was provided via letters to approximately 175 stakeholders, including the Chair and Ranking Member of the House of Representatives Committee on Natural Resources; the Chair and Ranking Member of the Senate Committee on Environment and Public Works; the members of the Senate and House of Representatives for the affected areas; the Governors of the affected areas; the local elected officials of the affected areas; and other appropriate Federal, State, and local officials.

Comments and Service Responses

The Service received written comments and/or acknowledgements from the following seven stakeholders (in no particular order):

1. FEMA: FEMA had no comment on the proposed modifications.

2. U.S. Army Corps of Engineers (Corps) Philadelphia District: The Corps provided comments on two CBRS units in Delaware, Units DE-06 and H00, and requested that the Service reassess the CBRS designation affecting particular areas within these two units. The Corps indicated that they conduct beach nourishment both north and south of Unit DE-06, and that residential development has occurred in these areas subsequent to the CBRS designation. The Corps indicated that they may conduct maintenance dredging in an inlet within Unit H00 and make repairs to the jetty system in the future, and that there are potential habitat restoration projects within the unit that could be affected by the CBRS designation. The Corps also indicated that land ownership within Unit H00 has changed since its initial designation, and that part of the unit is now within a National Wildlife Refuge.

Service Response to the Corps Comments: Changes to the CBRS boundaries depicted on the maps dated December 6, 2013, are limited to the administrative modifications the Secretary is authorized to make under the CBRA (16 U.S.C. 3503(c)-(e)). Changes that are outside the scope of this authority must be made through the comprehensive map modernization process, which is more time and resource intensive because it entails significant research, public review, and Congressional enactment of the revised maps. Additional information about CBRS digital conversion and comprehensive map modernization can be found in the “Digital Conversion of the CBRS Maps” section of the notice published by the Service in the Federal Register on August 29, 2013 (78 FR 53467). The Service will consider the information provided by the Corps when this area is reviewed through the comprehensive map modernization effort. However, the Service does not recommend removing lands or aquatic habitat from the CBRS unless there is compelling evidence that a technical mapping error led to the inclusion of the area in the CBRS. Development that occurs subsequent to the original CBRS designation does not constitute grounds for removal of lands or aquatic habitat from the CBRS.

Regarding the issue of potential habitat restoration projects within the CBRS, there are some exceptions to the CBRA's Federal funding restrictions (16 U.S.C. 3505) that may apply, depending on the project. If the proposed project or action is within a System unit of the CBRS, the Federal funding agency must consult with the Service's local field office to determine whether or not any of the exceptions under the CBRA are applicable. The Service's response to a consultation request is in the form of an opinion only. The Federal funding agency is responsible for complying with the provisions of CBRA.

3. State of Delaware Department of Natural Resources and Environmental Control: The State of Delaware had no specific comments on the proposed modifications, but noted the need for boundary revisions in areas where substantive issues may exist. These substantive issues include “the possible inadvertent inclusion of private lands in Otherwise Protected Areas, and CBRS boundaries which cross private subdivisions in configurations which may not be consistent with the original definition of an `undeveloped barrier island.'”

Service Response to the State of Delaware Comments: Changes to the CBRS boundaries depicted on the maps dated December 6, 2013, are limited to the administrative modifications the Secretary is authorized to make under the CBRA (16 U.S.C. 3503(c)-(e)). Changes that are outside the scope of this authority must be made through the comprehensive map modernization process, which is more time and resource intensive because it entails significant research, public review, and Congressional enactment of the revised maps. Additional information about CBRS digital conversion and comprehensive map modernization can be found in the “Digital Conversion of the CBRS Maps” section of the notice published by the Service in the Federal Register on August 29, 2013 (78 FR 53467). The Service will consider the information provided by the State of Delaware when this area is reviewed through the comprehensive map modernization effort. However, the Service does not recommend removing lands or aquatic habitat from the CBRS unless there is compelling evidence that a technical mapping error led to the inclusion of the area in the CBRS.

4. State of South Carolina Department of Health and Environmental Control: The State of South Carolina had no comment on the proposed modifications.

5. Town of Pawleys Island, South Carolina: The Town of Pawleys Island requested that the CBRS boundary at the northern end of the town (which is the southern boundary of Unit M02) be moved northward of the jetty at the south side of Midway Inlet.

Service Response to the Town of Pawleys Island Comments: The Service has reviewed the southern boundary of Unit M02 and found that the boundary was accurately transferred from the official 1990 CBRS map for the area to the new base map. Changes to the CBRS boundaries depicted on the maps dated December 6, 2013, are limited to the administrative modifications the Secretary is authorized to make under the CBRA (16 U.S.C. 3503(c)-(e)). Changes that are outside the scope of this authority must be made through the comprehensive map modernization process, which is more time and resource intensive because it entails significant research, public review, and Congressional enactment of the revised maps. Additional information about CBRS digital conversion and comprehensive map modernization can be found in the “Digital Conversion of the CBRS Maps” section of the notice published by the Service in the Federal Register on August 29, 2013 (78 FR 53467). The Service will consider the information provided by the Town of Pawleys Island when this area is reviewed through the comprehensive map modernization effort. However, the Service does not recommend removing lands or aquatic habitat from the CBRS unless there is compelling evidence that a technical mapping error led to the inclusion of the area in the CBRS.

6. State of Florida Department of Environmental Protection State Clearinghouse: The State of Florida had no comment on or objection to the proposed modifications in Florida.

7. City of Corpus Christi, Texas: The City of Corpus Christi had no comment on the proposed modifications.

Interested parties may contact the Service individual identified in the FOR FURTHER INFORMATION CONTACT section above to make arrangements to view copies of the comments received during the stakeholder review period.

No Changes to Draft Maps

The Service made no changes to the CBRS boundaries depicted on the draft maps dated November 30, 2012, as a result of the summer 2013 comment period (August 29, 2013, 78 FR 53467). The CBRS boundaries depicted on the final revised maps, dated December 6, 2013, are identical to the CBRS boundaries depicted on the draft revised maps dated November 30, 2012.

Summary of Modifications to the CBRS Boundaries

Below is a summary of the changes depicted on the final revised maps dated December 6, 2013.

Delaware

The Service's review found all 10 of the CBRS units in Delaware to have changed due to natural forces.

DE-01: LITTLE CREEK UNIT. The landward boundary of the unit has been modified to reflect natural changes that have occurred in the configuration of the marsh and wetland/fastland interface. The boundary has also been modified to reflect channel migration along Lewis Ditch. The seaward boundary of the excluded area was modified to account for shoreline erosion along the Delaware Bay.

DE-01P: LITTLE CREEK UNIT. The landward boundary of the unit has been modified to reflect natural changes that have occurred in the configuration of the marsh and wetland/fastland interface. The boundary has been modified to reflect channel migration and erosion along Kellys Ditch, Lewis Ditch, and several small unnamed creeks. The boundary has also been modified to account for erosion at the mouth of the St. Jones River.

DE-02P: BEACH PLUM ISLAND UNIT. The landward boundary of the unit has been modified to reflect natural changes that have occurred in the configuration of the marsh and wetland/fastland interface. The boundary has also been modified to account for channel migration and erosion along Broadkill River, Doty Glade, Old Mill Creek, and Canary Creek. The name of this unit has been changed from “Plum Beach Island” to “Beach Plum Island” to correctly identify the underlying barrier feature.

DE-03P: CAPE HENLOPEN UNIT. The boundary of the unit has been modified to account for erosion along the Lewes and Rehoboth Canal, as well as erosion and channel migration of an unnamed stream.

DE-06: SILVER LAKE UNIT. The landward boundary of the unit has been modified to account for erosion and accretion along the shoreline of Silver Lake.

DE-07P: DELAWARE SEASHORE UNIT. The boundary of the unit has been modified to account for shoreline erosion at the tip of Cedar Neck.

DE-08P: FENWICK ISLAND UNIT. The landward boundary of the unit has been modified to account for erosion and channel migration along Miller Creek and an unnamed stream. The landward boundary has also been modified to account for marsh erosion along the western shoreline of Little Assawoman Bay.

H00: BROADKILL BEACH UNIT. The landward boundary of the unit has been modified to reflect natural changes that have occurred in the configuration of the marsh and wetland/fastland interface. The boundary has also been modified to account for channel migration and erosion along the Murderkill River, Brockonbridge Gut, Mispillion River, Cedar Creek, Primehook Creek and several small unnamed streams. The seaward boundary of the excluded area has been modified to account for shoreline erosion along Delaware Bay.

H00P: BROADKILL BEACH UNIT. The landward boundary of the unit has been modified to reflect natural changes that have occurred in the configuration of the marsh and wetland/fastland interface. The boundary has also been modified to account for channel migration and erosion along Brockonbridge Gut, Mispillion River, Broadkill River, and several small unnamed streams.

H01: NORTH BETHANY BEACH UNIT. The landward boundary of the unit has been modified to account for erosion and channel migration of an unnamed stream.

South Carolina

The Service's review found all 23 of the CBRS units in South Carolina (including one unit, M01, that crosses the State boundary into North Carolina) to have changed due to natural forces. The final revised map for Unit SC-01 incorporates a voluntary addition to the CBRS requested by the owners of a property in Horry County, South Carolina.

M01: WAITES ISLAND COMPLEX. The boundary of the unit has been modified to reflect natural changes that have occurred in the configuration of the marsh, wetland/fastland interface, and the locations of House Creek, Little River, the Intracoastal Waterway, a small unnamed creek, and Hog Inlet. Due to the dynamic nature of the adjacent barrier to the south of the unit, the southern lateral boundary has been generalized and placed at the southern side of Hog Inlet. The South Carolina and North Carolina segments of this unit have been combined into a simple map for simplicity and clarity.

M02: LITCHFIELD BEACH UNIT. The landward boundary of the unit has been modified to account for channel migration along Clubhouse Creek, wetlands loss, and the accretion of the Litchfield Beach sand spit and associated shoals.

M03: PAWLEYS INLET UNIT. The boundary of the unit has been modified to include emergent marsh, account for channel migration at the north end of the unit, and reflect natural changes to the wetland/fastland interface on the landward side of the unit.

M04: DEBIDUE BEACH UNIT. The boundary of the unit has been modified to account for channel migration along Debidue and Jones Creeks. The boundary has been modified to reflect natural changes to the wetland/fastland interface on the landward side of the unit, and to keep all of North Island in the adjacent unit to the south (Unit SC-04).

M05: DEWEES ISLAND COMPLEX. The boundary of the unit has been modified to account for natural changes in the wetlands and channel migration along Whiteside Creek, Dewees Creek, and Capers Inlet. The boundary has been modified to reflect natural changes to the wetland/fastland interface on the mainland as well as along the northern side of Dewees Island.

M06: MORRIS ISLAND COMPLEX. Portions of the unit's landward boundary have been modified to account for natural changes to the wetland/fastland interface. The boundary has been modified to address channel migration and wetlands loss along Folly Creek, Rat Island Creek, and several other minor channels. The boundary has been modified to account for erosion at the tip of the sand spit on the northern end of Folly Island. Several portions of the boundary have been generalized where the underlying features that the boundary originally followed (e.g., wetlands and minor channels) no longer exist and suitable substitutes were not identified.

M07: BIRD KEY COMPLEX. Portions of the unit's boundary have been modified to account for channel migration along Folly River, Stono River, and Bass Creek. Portions of the landward boundary have been modified to reflect natural changes to the wetland/fastland interface. Several portions of the boundary have been generalized where the underlying features that the boundary originally followed (e.g., wetlands and minor channels) no longer exist and suitable substitutes were not identified.

M07P: BIRD KEY COMPLEX. Portions of the unit's boundary have been modified slightly to account for channel migration along Folly River.

M08: CAPTAIN SAMS INLET UNIT. The eastern boundary of the unit has been modified to account for channel migration along Kiawah River and Captain Sams Creek. The landward boundary has been modified to address natural changes to the wetland/fastland interface.

M09: EDISTO COMPLEX. The boundary of the unit has been modified to account for channel migration along North Edisto River, Ocella Creek, and Jeremy Inlet. The landward boundary has been modified to reflect natural changes to the wetland/fastland interface. The offshore boundary has been extended to clarify the inclusion of Deveaux Bank within the unit.

M09P: EDISTO COMPLEX. The boundary of the unit has been modified to account for channel migration along Jeremy Inlet and Scott Creek.

M10: OTTER ISLAND UNIT. The boundary of the unit has been modified to account for channel migration along South Edisto River and Two Sisters Creek. The boundary has been modified to reflect natural changes in the wetland/fastland interface.

M11: HARBOR ISLAND UNIT. The boundary of the unit has been modified to account for erosion and wetlands loss along Harbor River and Ward Creek and to remove a portion of Harbor Island, which has accreted into the unit but was intended to be excluded. The boundary has been modified to reflect natural changes in the wetland/fastland interface.

M12: ST. PHILLIPS ISLAND UNIT. The boundary of the unit has been modified to account for channel migration, wetlands loss, and spit accretion along Skull Creek and Skull Inlet. The boundary has been modified to account for channel migration along Story River and an unnamed tributary. The landward boundary has been modified to reflect natural changes to the wetland/fastland interface.

M13: DAUFUSKIE ISLAND UNIT. The northern lateral boundary of the unit has been moved northward to account for an accreting sand spit and associated shoals. The boundary has been modified to address channel migration along Mungen Creek, New River, and an unnamed stream.

SC-01: LONG POND UNIT. A segment of the boundary in the northern portion of the unit has been modified to account for channel migration and erosion. The portions of the Meher Spiritual Center that were not already within the unit have been added based on a voluntary addition request made by the owners of the property to the Secretary of the Interior.

SC-03: HUNTINGTON BEACH UNIT. The northern boundary of the unit along Main Creek has been modified to account for natural changes at the southern tip of Garden City Beach north of Murrells Inlet. Portions of the boundary have been modified to account for channel migration along Oaks Creek and natural changes that have occurred in the configuration of the wetland/fastland interface.

SC-04: NORTH/SOUTH ISLANDS UNIT. The boundary of the unit has been modified to account for natural changes in the wetland/fastland interface and channel migration in North Santee Bay. The boundary has been modified to keep all of North Island and South Island, which have both been accreting into adjacent units, in Unit SC-04.

SC-05P: SANTEE UNIT. The boundary of the unit has been modified to account for channel migration along North Santee Bay and the South Santee River. The landward boundary has been modified to reflect natural changes to the wetland/fastland interface. A portion of Cape Island has accreted out of adjacent Unit SC-06P and into Unit SC-05P, but because it is unclear whether this portion of the coincident boundary between the two units is based on an established property boundary, the boundary has not been modified.

SC-06P: CAPE ROMAIN UNIT. The boundary of the unit has been modified to reflect natural changes to the wetland/fastland interface. It has been modified to address channel migration and wetlands loss along Bull Narrows, Price Creek, and several other minor channels. A portion of Cape Island has accreted out of Unit SC-06P and into adjacent Unit SC-05P, but because it is unclear whether this portion of the coincident boundary between the two units is based on an established property boundary, the boundary has not been modified.

SC-07P: CAPERS ISLAND UNIT. The landward boundary of the unit has been modified to reflect natural changes to the wetland/fastland interface. The boundary has been modified to account for channel migration and wetlands loss along Bull Narrows, Price Creek, Whiteside Creek, Capers Inlet, and several other minor channels.

SC-09P: HUNTING ISLAND UNIT. The boundary of the unit has been modified to account for erosion and wetlands loss along Harbor River, and channel migration in the unnamed channel upstream of Fripps Inlet.

SC-10P: TURTLE ISLAND UNIT. The boundary has been modified to account for channel migration along New River, Wright River, and Walls Cut.

Florida

The Service's review found that Unit FL-87P (the only CBRS unit in Florida that was part of this review) had changed due to natural forces. The other CBRS units in Florida were not assessed as part of this review.

FL-87P: ANCLOTE KEY UNIT. The boundaries of the unit have been extended to the north, east, and south in order to capture the entire sand-sharing system of Anclote Key and to include a portion of Anclote Key that has accreted south outside of the existing boundaries.

Texas

The Service's review found 28 of the 35 CBRS units in Texas to have changed due to natural forces. The final revised map for Unit T03A corrects a transcription error that was made in 1990 for an area located in Galveston County, Texas.

T02A: HIGH ISLAND UNIT. The boundary of the unit has been modified to reflect natural changes to the southern edge of the Intracoastal Waterway.

T03A: BOLIVAR PENINSULA UNIT. The boundary of the unit has been modified to reflect natural changes in the configuration of the wetlands on and around the Bolivar Peninsula and along the Intracoastal Waterway. A small overwash fan has been added to the southern segment of the unit. Additionally, the excluded area of the southern segment of the unit and a portion of the southwestern boundary of the southern segment of the unit were modified (by approximately 80 feet and 230 feet respectively) to correct an error in the transcription of the boundary from the draft map that was reviewed and approved by Congress to the official map dated October 24, 1990, for this unit. This area was correctly depicted on the original 1982 official map for Unit T03A, as well as on the draft map for Unit T03A contained in the Service's 1988 Report to Congress: Volume 19, Texas (North Coast). This correction is supported by an assessment of the historical maps for this area, as well as by the legislative history of the Coastal Barrier Improvement Act of 1990 (Pub. L 101-591).

T03AP: BOLIVAR PENINSULA UNIT. A portion of the boundary at the southwestern end of the unit has been modified to reflect natural changes along the Gulf-fronting shoreline near Port Bolivar.

T04: FOLLETS ISLAND UNIT. The boundary of the unit has been modified to account for natural changes to the landward side of Follets Island, the southern side of the Intracoastal Waterway, and the configuration of the wetlands along Mud Island. The seaward boundaries of the excluded areas have been modified to account for erosion along the Gulf-fronting shoreline of Follets Island.

T04P: FOLLETS ISLAND UNIT. The boundary of the unit has been modified to account for natural changes to the landward side of Follets Island, the southern side of the Intracoastal Waterway, and the configuration of the wetlands along Mud Island.

T05: BRAZOS RIVER COMPLEX. The boundary of the unit has been adjusted to account for natural changes along the southern edge of the Intracoastal Waterway. The boundary of the southern segment of the unit located landward of the Intracoastal Waterway has been modified in some places to reflect natural changes to the wetlands and the eastern edge of the San Bernard River.

T05P: BRAZOS RIVER COMPLEX. Portions of the landward boundary at the northern end of the unit have been modified to account for natural changes to the southern edge of the Intracoastal Waterway.

T06: SARGENT BEACH UNIT. Portions of the unit's boundary have been modified to account for wetlands loss and to follow the northern edge of the barrier located just to the south of the Cedar Lakes. The coincident boundary between Units T06 and T06P has been generalized in places where the configuration of the barrier feature has changed. The lateral portion of the coincident boundary between the two units has not been modified because it is unclear whether that portion of the boundary is based on an established property boundary.

T06P: SARGENT BEACH UNIT. Portions of the landward boundary at the northern end of the unit have been modified to account for natural changes to the southern edge of the Intracoastal Waterway. Portions of the boundary have been modified to account for wetlands loss and to follow the northern edge of the barrier located just to the south of the Cedar Lakes. The coincident boundary between Units T06 and T06P has been generalized in places where the configuration of the barrier feature has changed. The lateral portion of the coincident boundary between the two units has not been modified because it is unclear whether that portion of the boundary is based on an established property boundary.

T07: MATAGORDA PENINSULA UNIT. The coincident boundary between Units T07 and T07P has been generalized in order to account for natural changes to the edge of the wetlands and the shoreline on the landward side of the Matagorda Peninsula and a strip of spoil islands behind the peninsula along the Intracoastal Waterway. These boundaries have been generalized because of the highly dynamic nature of the barrier. Wetlands located to the west of the Colorado River on the landward side of the unit were added to the unit. An historic inlet towards the southern end of the Matagorda Peninsula that has closed since the map was last updated has been reclassified from T07P (an otherwise protected area) to T07 (a System unit).

T07P: MATAGORDA PENINSULA UNIT. The coincident boundary between Units T07 and T07P has been generalized in order to account for natural changes to the edge of the wetlands and the shoreline on the landward side of the Matagorda Peninsula and strip of spoil islands behind the peninsula along the Intracoastal Waterway. These boundaries have been generalized because of the highly dynamic nature of the barrier. Wetlands around the mouth of a channel that empties into Matagorda Bay (located just west of the Colorado River) have been added to the unit. An historic inlet towards the southern end of the Matagorda Peninsula that has closed since the map was last updated has been reclassified from T07P (an otherwise protected area) to T07 (a System unit).

T08: SAN JOSE ISLAND COMPLEX. The coincident boundaries between Units T08 and TX-06P and between Units T08 and T08P have been modified to account for natural changes along certain channels within the wetlands on the landward side of Matagorda Island, along the edge of the wetlands behind Matagorda Island and San Jose Island, and along the shoreline of the barrier. An historic inlet at Cedar Bayou between San Jose Island and Matagorda Island that has closed since the map was last updated has been reclassified from T08P (an otherwise protected area) to T08 (a System unit).

T08P: SAN JOSE ISLAND COMPLEX. The landward boundary of most of the unit has been modified to account for natural changes along the southern edge of the Intracoastal Waterway. The coincident boundaries between Units T08P and TX-06P and between Units T08P and T08 have been adjusted to account for natural changes along certain channels within the wetlands on the landward side of Matagorda Island, along the edge of the wetlands behind Matagorda Island and San Jose Island, and along the shoreline of the barrier. An historic inlet at Cedar Bayou between San Jose Island and Matagorda Island that has closed since the map was last updated has been reclassified from T08P (an otherwise protected area) to T08 (a System unit).

T11, T11P: SOUTH PADRE ISLAND UNIT. The coincident boundary between Units T11 and T11P has been modified in some places to better follow a break between the Laguna Madre and South Padre Island that is visible on the base imagery.

T12: BOCA CHICA UNIT. Portions of the boundary of the unit have been modified to account for natural changes to the wetland/fastland interface as visible on the base imagery. The northern boundary of the unit has been modified to account for natural changes to the shoreline. Two narrow strips that were not included in the original unit were added to the southwestern portion of the unit. These strips include both wetlands and fastlands that are not connected to the mainland and are part of the barrier system. The boundary along the mouth of the Rio Grande has been moved northward to account for erosion of the barrier on the U.S. side of the river and accretion of the barrier on the Mexico side.

T12P: BOCA CHICA UNIT. Portions of the western boundary of the southern segment of the unit have been modified to reflect natural changes to the wetland/fastland interface as visible on the base imagery.

TX-02P: MCFADDIN UNIT. The boundary of the unit has been modified to reflect natural changes to the southern edge of the Intracoastal Waterway and to the northern shoreline of Star Lake.

TX-04, TX-04P: SWAN LAKE UNIT. The coincident boundary between the units has been generalized due to the erosion of the underlying barrier feature in Swan Lake that it was originally following. The landward boundary of both units has been modified to reflect natural changes in the wetland/fastland interface and the shoreline.

TX-06P: MATAGORDA ISLAND UNIT. The landward boundary of most of the unit has been modified to account for natural changes along the southern edge of the Intracoastal Waterway. The coincident boundaries between Units TX-06P and T08P and between Units TX-06P and T08 at the southern end of the unit have also been modified due to natural changes along certain channels within the wetlands on the landward side of Matagorda Island.

TX-09: COON ISLAND BAY UNIT. Portions of the landward boundary of the unit have been modified to account for natural changes to the wetland/fastland interface and the shoreline.

TX-10: SHELL BEACH UNIT. Portions of the landward boundary of the unit have been modified to account for natural changes to the wetland/fastland interface. An area of wetlands along the northern lateral boundary was added to the unit.

TX-15P: MUSTANG ISLAND UNIT. Portions of the southern boundary of the unit located to the northwest of Packery Channel Park have been modified to account for natural changes to the wetland/fastland interface. Another portion of the southern part of the boundary has been adjusted to the western edge of Packery Channel.

TX-17, TX-17P: SHAMROCK ISLAND UNIT. The coincident boundary between TX-17 and TX-17P has been generalized and straightened, because Shamrock Island has eroded significantly and in some places there is no longer a feature for the boundary to follow. The southern boundary of both units has been moved slightly southward to account for accretion at the south end of Shamrock Island.

TX-19: STARVATION POINT UNIT. The landward boundary of the unit has been modified to account for the eroding shoreline and natural changes to the wetland/fastland interface. The boundary has been modified to include the entire sand-sharing system of the barrier feature around Starvation Point in the unit.

TX-21: KLEBERG POINT UNIT. The landward boundary of the unit has been modified to account for the eroding shoreline and changes to the wetland/fastland interface. The boundary has been modified to include the entire sand-sharing system of the barrier feature around Kleberg Point in the unit.

Availability of Final Maps and Related Information

The final revised maps dated December 6, 2013, and digital boundary data can be accessed and downloaded from the Service's Web site: http://www.fws.gov/CBRA. The digital boundary data are available for reference purposes only. The digital boundaries are best viewed using the base imagery to which the boundaries were drawn; this information is printed in the title block of the maps. The Service is not responsible for any misuse or misinterpretation of the digital boundary data.

Interested parties may also contact the Service individual identified in the FOR FURTHER INFORMATION CONTACT section above to make arrangements to view the final maps at the Service's Headquarters office. Interested parties who are unable to access the maps via the Service's Web site or at the Service's Headquarters office may contact the Service individual identified in the FOR FURTHER INFORMATION CONTACT section above, and reasonable accommodations will be made to ensure the individual's ability to view the maps.

Gary Frazer,
Assistant Director for Ecological Services.

[FR Doc. 2014-08798 Filed 4-16-14; 8:45 am]

BILLING CODE 4310-55-P